DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 21, 2005.

Interested persons are invited to submit written comments regarding the subject matter of the investigations to the Director, Division of Trade Adjustment Assistance, at the address shown below, not later than November 21, 2005.

The petitions filed in this case are available for inspection at the Office of the Director, Division of Trade Adjustment Assistance, Employment and Training Administration, U.S. Department of Labor, Room C-5311, 200 Constitution Avenue, NW., Washington, DC 20210.

Signed at Washington, DC this 3rd day of November 2005.
Erica R. Cantor,
Director, Division of Trade Adjustment Assistance.

Appendix

TAA Petitions Instituted Between 10/17/05 and 10/28/05
TA-W | Subject firm (petitioners) | Location | Date of institution | Date of petition
58137 | BNZ Materials, Inc., (USWA) | Zelienople, PA | 10/17/05 | 09/29/05
58138 | Halmode Apparel, (Comp) | New York, NY | 10/17/05 | 10/06/05
58139 | Kellogg Brown and Root, Inc., (KBR), (State) | Mansfield, LA | 10/17/05 | 10/14/05
58140 | Samuel Son and Company, (Wkrs) | Detroit, MI | 10/17/05 | 10/13/05
58141 | IBM Corporation, (Wkrs) | Muskegon, MI | 10/17/05 | 10/10/05
58142 | Vishay Roederstein Electronics, Inc., (Comp) | Statesville, NC | 10/17/05 | 10/13/05
58143 | Gunderson, (State) | Portland, OR | 10/17/05 | 10/14/05
58144 | General Electric Company, (Wkrs) | Fort Wayne, IN | 10/17/05 | 09/28/05
58145 | General Cable Industries, Inc., (State) | Dayville, CT | 10/17/05 | 10/17/05
58146 | Wabash Alloys, (GMP) | Cleveland, OH | 10/17/05 | 10/17/05
58147 | Valley Woodworking Company, (Comp) | Lenoir, NC | 10/17/05 | 10/17/05
58148 | Ranco North America, (Comp) | Brownsville, TX | 10/17/05 | 10/07/05
58149 | Federal Mogul, (Wkrs) | Sparta, TN | 10/17/05 | 10/17/05
58150 | Siemens Energy and Automation, Inc., (Comp) | Bellefontaine, OH | 10/18/05 | 10/17/05
58151 | Carhartt, Inc., (Comp) | Dover, TN | 10/18/05 | 10/18/05
58152 | Native Textiles, (Comp) | Glens Falls, NY | 10/18/05 | 10/17/05
58153 | GE Sensing, (State) | New Fairfield, CT | 10/18/05 | 10/17/05
58154 | Hewlett-Packard, (Wkrs) | Nashua, NH | 10/18/05 | 10/14/05
58155 | Vansco Electronics, Inc., (Wkrs) | Valley City, ND | 10/18/05 | 10/05/05
58156 | Furukawa Electric North American APD, Inc., (Comp) | Plymouth, MI | 10/18/05 | 10/03/05
58157 | High Cotton Enterprises, Inc., (State) | Fort Payne, AL | 10/18/05 | 10/07/05
58158 | Falcon Plastics, (Comp) | Washington, PA | 10/18/05 | 10/05/05
58159 | FDB, Inc., (Wkrs) | Lincolnton, GA | 10/18/05 | 09/28/05
58160 | Ingram Micro, (Wkrs) | Santa Ana, CA | 10/18/05 | 09/29/05
58161 | Maxi Seal Harness Systems, Inc., (Comp) | Garland, TX | 10/18/05 | 10/03/05
58162 | Style Setter Fashions, Inc., (UNITE) | Philadelphia, PA | 10/18/05 | 10/05/05
58163 | V.C. Originals, (Wkrs) | Ridgeland, MS | 10/18/05 | 09/20/05
58164 | Dan River, Inc. (Comp) | Rutherfordton, NC | 10/18/05 | 10/18/05
58165 | Crane Plumbing, (Wkrs) | Ferguson, KY | 10/18/05 | 10/06/05
58166 | Penn-Union Corp., (GMP) | Edinboro, PA | 10/18/05 | 10/06/05
58167 | Galgon Industries, Inc., (Wkrs) | Fremont, CA | 10/18/05 | 10/06/05
58168 | Cooper Hand Tools, (Wkrs) | York, PA | 10/18/05 | 09/27/05
58169 | Motorola, Inc., (Wkrs) | Schaumburg, IL | 10/18/05 | 09/21/05
58170 | International Specialty Products, (Wkrs) | San Diego, CA | 10/18/05 | 10/11/05
58171 | Cooper Standard Automotive, (USW) | Auburn, IN | 10/19/05 | 09/14/05
58172 | Pioneer Companies, Inc., (ICWUC) | Tacoma, WA | 10/19/05 | 10/18/05
58173 | Cargill Malt, (USW) | Jefferson, WI | 10/19/05 | 10/18/05
58174 | Needletrade Services, LTD, (Comp) | Fall River, MA | 10/19/05 | 10/18/05
58175 | T.I. Automotive, (State) | Meriden, CT | 10/20/05 | 10/19/05
58176 | Dixon Ticonderoga Company, (Comp) | Versailles, MO | 10/20/05 | 10/19/05
58177 | Rexnord Corp., (Comp) | Warren, PA | 10/24/05 | 10/20/05
58178 | Bassett Furniture Industries, Inc., (Comp) | Mt. Airy, NC | 10/24/05 | 10/20/05
58179 | Oakwood Furniture Mfg., Inc., (Comp) | New Tazewell, TN | 10/24/05 | 10/20/05
58180 | Ensign-Bickford Company (The), (Comp) | Spanish Fork, UT | 10/24/05 | 10/20/05
58181 | Stimson Lumber Company, (Comp) | Coeur d Alene, ID | 10/24/05 | 10/20/05
58182 | Meridian Beartrack Company, (Comp) | Salmon, ID | 10/24/05 | 10/18/05
58183 | Firestone Tube Company, (State) | Russellville, AR | 10/24/05 | 10/20/05
58184 | Georgia-Pacific, (Comp) | Green Bay, WI | 10/24/05 | 10/12/05
58185 | General Electric, (State) | Mebane, NC | 10/24/05 | 10/13/05
58186 | Microsoft, (Wkrs) | Charlotte, NC | 10/24/05 | 10/14/05
58187 | Amerex Group, Inc., (Wkrs) | Cottage Grove, WI | 10/24/05 | 10/08/05
58188 | Staley Fabricators, Inc., (Comp) | Staley, NC | 10/24/05 | 10/21/05
58189 | Meridian Automotive Systems, Inc., (Comp) | Canandaigua, NY | 10/24/05 | 10/21/05
58190 | Meridian Automotive Systems Grand Rapids, (State) | Grand Rapids, MI | 10/24/05 | 10/21/05
58191 | Brown Jordan Co., (State) | El Monte, CA | 10/24/05 | 10/11/05
58192 | Kim Bo Sewing Co., (Wkrs) | San Francisco, CA | 10/24/05 | 10/07/05
58193 | Goodman Veneer and Lumber, (Wkrs) | Goodman, WI | 10/24/05 | 10/21/05
58194 | Springs Industries, Inc., (Comp) | Lancaster, SC | 10/24/05 | 10/20/05
58195 | Kinesis USA, Inc., (Comp) | Portland, OR | 10/24/05 | 10/13/05
58196 | Thomas C. Wilson, Inc., (Comp) | Long Island City, NY | 10/24/05 | 10/14/05
58197 | Flynn Enterprises, LLC, (Wkrs) | Elkton, KY | 10/24/05 | 10/20/05
58198 | Lake View Finishing, Inc., (Comp) | Lake View, SC | 10/25/05 | 10/18/05
58199 | Carpostan Industries, Inc., (Comp) | Lake View, SC | 10/25/05 | 10/18/05
58200 | Carpostan Yarn, Inc., (Comp) | Lake View, SC | 10/25/05 | 10/18/05
58201 | Hewlett-Packard, (Wkrs) | Boise, ID | 10/25/05 | 10/17/05
58202 | Key Plastics, (Wkrs) | Hamilton, IN | 10/25/05 | 10/17/05
58203 | American Recreation Products, (Comp) | New Haven, MO | 10/25/05 | 10/24/05
58204 | Bethel Furniture Stock, Inc., (Comp) | Bethel, ME | 10/25/05 | 09/26/05
58205 | Berliss Bearing Co., (State) | Livingston, NJ | 10/25/05 | 09/27/05
58206 | B and J Knits, Inc., (Comp) | Statesville, NC | 10/25/05 | 10/20/05
58207 | Fiskars Home Leisure, (Comp) | Opelika, AL | 10/26/05 | 10/12/05
58208 | Allegheny Ludlum, (Wkrs) | Brackenridge, PA | 10/26/05 | 10/24/05
58209 | Carolina Steel Products, Inc., (Comp) | Gastonia, NC | 10/26/05 | 10/22/05
58210 | Tooling Science, (State) | Maple Grove, MN | 10/26/05 | 10/25/05
58211 | Fisher Technical Development, Inc., (Comp) | Columbia, MD | 10/26/05 | 10/25/05
58212 | Wright Products Co., (Wkrs) | Rice Lake, WI | 10/26/05 | 10/25/05
58213 | Celand Yarn Dyers, Inc., (Comp) | Thomasville, NC | 10/26/05 | 10/19/05
58214 | Quincrafts Corporation, (Wkrs) | Pawtucket, RI | 10/26/05 | 10/20/05
58215 | Bespak, Inc., (Wkrs) | Apex, NC | 10/26/05 | 10/25/05
58216 | Yankee Plastics, Inc., (Comp) | East Hampton, MA | 10/26/05 | 10/18/05
58217 | Carolina Mills, Inc., (Comp) | Valdese, NC | 10/26/05 | 10/26/05
58218 | Encad, Inc., (Comp) | San Diego, CA | 10/26/05 | 10/26/05
58219 | Woodline Productions, (State) | Medford, OR | 10/27/05 | 10/25/05
58220 | Amsea, Inc., (Comp) | Fenton, MI | 10/27/05 | 10/21/05
58221 | Cambridge Integrated Services Group, Inc., (Wkrs) | Mt. Clemens, MI | 10/27/05 | 10/19/05
58222 | Ansonia Copper and Brass, Inc., (Comp) | Ansonia, CT | 10/27/05 | 10/26/05
58223 | Alsco American Industrial Service, (State) | Portland, OR | 10/27/05 | 10/26/05
58224 | Eaton Corporation, (Comp) | Jackson, MI | 10/28/05 | 10/28/05
58225 | New Riverside Ochre Company, (Comp) | Cartersville, GA | 10/28/05 | 10/17/05
58226 | Alcan Packaging—Cebal Americas, (Comp) | Cypress, CA | 10/28/05 | 10/20/05
58227 | Average Joe, (State) | Los Angeles, CA | 10/28/05 | 10/18/05
58228 | General Electric, (Comp) | Hebron, OH | 10/28/05 | 10/14/05
58229 | Dubuit of America, (State) | Niles, IL | 10/28/05 | 10/17/05
58230 | IBM, (Wkrs) | Rochester, MN | 10/28/05 | 10/18/05
58231 | Peak Oilfield Services, (Comp) | Kenai, AK | 10/28/05 | 10/27/05

(Comp)

[FR Doc. 05-22330 Filed 11-8-05; 8:45 am]

BILLING CODE 4510-30-P